DEPARTMENT OF TRANSPORTATION

Federal Aviation Administration

[Summary Notice No. PE-2002-39]

Petitions for Exemption; Summary of Petitions Received

AGENCY: Federal Aviation Administration (FAA), DOT.

ACTION: Notice of petitions for exemption received.

SUMMARY: Pursuant to FAA's rulemaking provisions governing the application, processing, and disposition of petitions for exemption, part 11 of Title 14, Code of Federal Regulations (14 CFR), this notice contains a summary of certain petitions seeking relief from specified requirements of 14 CFR. The purpose of this notice is to improve the public's awareness of, and participation in, this aspect of FAA's regulatory activities. Neither publication on this notice nor the inclusion or emission of information in the summary is intended to affect the legal status of any petition or its final disposition.

DATES: Comments or petitions received must identify the petition docket number involved and must be received on or before July 2, 2002.

ADDRESSES: Send comments on any petition to the Docket Management System, U.S. Department of Transportation, Room Plaza 401, 400 Seventh Street, SW., Washington, DC 20590-0001. You must identify the docket number FAA-2002-XXXX at the beginning of your comments. If you wish to receive confirmation that the FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Pat Siegrist (425-227-2126), or Susan Boylon (425-227-1152), Transport Airplane Directorate (ANM-113), Federal Aviation Administration, 1601 Lind Ave SW., Renton, WA 98055-4056, or Vanessa Wilkins (202-267-8029), Office of Rulemaking (ARM-1), Federal Aviation Administration, 800 Independence Avenue, SW., Washington, DC 20591.

This notice is published pursuant to 14 CFR 11.85 and 11.91.

Issued in Washington, DC, on June 6, 2002.
Donald P. Byrne,
Assistant Chief Counsel for Regulations.

Petitions for Exemption

Docket No.: FAA-2002-12350.

Petitioner: Bombardier Aerospace.

Section of 14 CFR Affected: 14 CFR 25.813.(e).

Description of Relief Sought: To permit installation of a hinged door between passenger compartments on the BD-700-1A10 Global Express corporate airplane.

Docket No.: FAA-2002-12349.

Petitioner: Bombardier Aerospace.

Section of 14 CFR Affected: 14 CFR 25.815.

Description of Relief Sought: To allow relief from the aisle width requirement at the forward inboard aft-facing seat on the BD-700-1A10 Global Express corporate airplane. A seat placard will state not for use during taxi, takeoff, or landing.

Docket No.: FAA-2002-12351.

Petitioner: The Boeing Company.

Section of 14 CFR Affected: 14 CFR 25.1435(b)(1).

Description of Relief Sought: To permit certification compliance for the hydraulic systems on Boeing Models 747-400 and -400F series airplanes with increased maximum takeoff weight of 910,000 lbs., by (i) similarity to the previously tested hydraulic systems on the Boeing Models 747-100 and -400 for the unchanged parts of the installations, and (ii) conducting proof pressure test at the pressure relief valve setting (3350 psig) in lieu of the 1.5 times design operating pressure (4500 psig) for the changed parts of the installations.

Docket No.: FAA-2002-12399.

Petitioner: Cessna Aircraft Company.

Section of 14 CFR Affected: 14 CFR 25.785(b).

Description of Relief Sought: To permit Cessna to equip Cessna Model 750 Citation X aircraft with multiple-occupancy side-facing couches that are not designed to include the general occupant protection requirement of § 25.785(b).

[FR Doc. 02-14689 Filed 6-11-02; 8:45 am]

BILLING CODE 4910-13-M